DEPARTMENT OF COMMERCE

Bureau of Industry and Security

15 CFR Part 738

[Docket No. 230815-0195]

RIN 0694-AJ25

Expansion of Nuclear Nonproliferation Controls on the People's Republic of China and Macau; Correction

Correction

In rule document 2023-18047 beginning on page 56763 of the issue of Monday, August 21, 2023, make the following correction:

Supplement No. 1 to Part 738 [Corrected]

On page 56763, following Amendatory instruction 2 at the bottom of the page, the table entitled COMMERCE COUNTRY CHART is corrected to read as set forth below:

Commerce Country Chart
[Reason for control]
Countries | Chemical & biological weapons: CB1 | Chemical & biological weapons: CB2 | Chemical & biological weapons: CB3 | Nuclear nonprolif- eration: NP1 | Nuclear nonprolif- eration: NP2 | National security: NS1 | National security: NS2 | Missile tech: MT1 | Regional stability: RS1 | Regional stability: RS2 | Firearms convention: FC1 | Crime control: CC1 | Crime control: CC2 | Crime control: CC3 | Anti- terrorism: AT1 | Anti- terrorism: AT2
* * * * *
China | X | X | X | X | X | X | X | X | X | X |  | X |  | X |  |
* * * * *
Macau | X | X | X | X | X | X | X | X | X | X |  | X |  | X |  |
* * * * *

[FR Doc. C1-2023-18047 Filed 8-28-23; 8:45 am]

BILLING CODE 0099-10-P